DEPARTMENT OF AGRICULTURE

Grain Inspection, Packers and Stockyards Administration

Advisory Committee Meeting

Pursuant to the provisions of section 10(a)(2) of the Federal Advisory Committee Act (Pub. L. 92-463), notice is hereby given of the following committee meeting:

Name: Grain Inspection Advisory Committee.

Date: May 16-17, 2000.

Place: DoubleTree Hotel-Lloyd Center, 1000 N.E. Multnomah, Portland, Oregon.

Time: 8:00 am-5:00 pm on May 16 and 8:00 am-11:30 am on May 17, 2000.

Purpose: To provide advice to the Administrator of the Grain Inspection, Packers and Stockyards Administration (GIPSA) with respect to the implementation of the U.S. Grain Standards Act (7 U.S.C. 71 et seq.).

The agenda includes a review and discussion of GIPSA's financial status, reauthorization, biotechnology, research and information technology strategies, and other related issues concerning the delivery of grain inspection and weighing services to American agriculture.

Public participation will be limited to written statements, unless permission is received from the Committee Chairman to orally address the Committee. Persons, other than members, who wish to address the Committee or submit written statements before or after the meeting, should contact the Administrator, GIPSA, U.S. Department of Agriculture, 1400 Independence Avenue, SW, STOP 3601, Washington, DC 20250-3601, telephone (202) 720-0219 or FAX (202) 205-9237.

The meeting will be open to the public. Persons with disabilities who require alternative means of communication of program information or related accommodation should contact Marianne Plaus, telephone (202) 690-3460 or FAX (202) 205-9237.

Dated: April 19, 2000.
James R. Baker,
Administrator.

[FR Doc. 00-10307 Filed 4-24-00; 8:45 am]

BILLING CODE 3410-EN-P